SMALL BUSINESS ADMINISTRATION

[Disaster Declaration #14667 and #14668]

Louisiana Disaster Number LA-00062

AGENCY: U.S. Small Business Administration.

ACTION: Amendment 5.

SUMMARY: This is an amendment of the Presidential declaration of a major disaster for the State of LOUISIANA (FEMA-4263-DR), dated 03/13/2016.

Incident: Severe Storms and Flooding.

Incident Period: 03/08/2016 and continuing.

DATES: Effective 04/07/2016.

Physical Loan Application Deadline Date: 05/12/2016.

EIDL Loan Application Deadline Date: 12/13/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: The notice of the Presidential disaster declaration for the State of LOUISIANA, dated 03/13/2016 is hereby amended to include the following areas as adversely affected by the disaster:

Primary Parish: (Physical Damage and Economic Injury Loans): Avoyelles

Contiguous Parishes: (Economic Injury Loans Only):

Louisiana: Pointe Coupee Saint Landry West Feliciana

All other information in the original declaration remains unchanged.

(Catalog of Federal Domestic Assistance Number 59008)

Jerome Edwards,
Acting Associate Administrator for Disaster Assistance.

[FR Doc. 2016-08976 Filed 4-20-16; 8:45 am]

BILLING CODE 8025-01-P